DEPARTMENT OF TRANSPORTATION

Coast Guard

33 CFR Part 117

[CGD01-01-059]

Drawbridge Operation Regulations: Kennebec River, ME

AGENCY: Coast Guard, DOT.

ACTION: Notice of temporary deviation from regulations.

SUMMARY: The Commander, First Coast Guard District, has issued a temporary deviation from the drawbridge operation regulations for the Carlton Bridge, at mile 14.0, across the Kennebec River between Bath and Woolwich, Maine. This deviation from the regulations authorizes the bridge owner to keep the bridge in the closed position from 7 a.m. on May 24, 2001 through 7 p.m. on June 7, 2001. This deviation is necessary in order to facilitate necessary repairs at the bridge.

DATES: This deviation is effective from May 24, 2001, through June 7, 2001.

FOR FURTHER INFORMATION CONTACT: John McDonald, Project Officer, First Coast Guard District, at (617) 223-8364.

SUPPLEMENTARY INFORMATION: The Carlton Bridge, at mile 14.0, across the Kennebec River has a vertical clearance in the closed position of 10 feet at mean high water and 16 feet at mean low water. The existing drawbridge operating regulations are listed at 33 CFR 117.525.

The owner of the bridge, the Maine Department of Transportation, requested a temporary deviation from the drawbridge operation regulations to facilitate the installation of an alternate diesel powered operating system at the bridge. The bridge will be out of service during the construction necessary to install the back-up diesel operating system.

This deviation to the operating regulations authorizes the owner of the Carlton Bridge to keep the bridge in the closed position from 7 a.m. on May 24, 2001 through 7 p.m. on June 7, 2001.

In accordance with 33 CFR 117.35(c), this work will be performed with all due speed in order to return the bridge to normal operation as soon as possible. This deviation from the operating regulations is authorized under 33 CFR 117.35.

Dated: April 30, 2001.
G.N. Naccara,
Rear Admiral, U.S. Coast Guard, Commander, First Coast Guard District.

[FR Doc. 01-11712 Filed 5-8-01; 8:45 am]

BILLING CODE 4910-15-U